DEPARTMENT OF TRANSPORTATION

Federal Aviation Administration

Notice of Intent to Rule on Application 02-06-C-00-MOT to Impose and Use the Revenue from a Passenger Facility Charge (PFC) at Minot International Airport, Minot, ND

AGENCY: Federal Aviation Administration (FAA), DOT.

ACTION: Notice of intent to rule on application.

SUMMARY: The FAA proposes to rule and invites public comment on the application to impose and use the revenue from a PFC at Minot International Airport under the provisions of the 49 U.S.C. 40117 and Part 158 of the Federal Aviation Regulations (14 CFR part 158).

DATES: Comments must be received on or before September 23, 2002.

ADDRESSES: Comments on this application may be mailed or delivered in triplicate to the FAA at the following address: Bismarck Airports District Office, 2301 University Drive Building 23B, Bismarck, North Dakota 58504.

In addition, one copy of any comments submitted to the FAA must be mailed or delivered to Mr. Michael Ryan, Airport Director, City of Minot, North Dakota at the following address: Minot International Airport, 25 Airport Road, Suite 10, Minot, North Dakota 58701-1457.

Air Carriers and foreign air carriers may submit copies of written comments previously provided to the City of Minot, North Dakota under section 158.23 of Part 158.

FOR FURTHER INFORMATION CONTACT: Mr. Steven J. Obenauer, Manager, Bismarck Airports District Office, 2301 University Drive, Building 23B, Bismarck, North Dakota 58504, (701) 323-7380. The application may be reviewed in person at this same location.

SUPPLEMENTARY INFORMATION: The FAA proposes to rule and invites public comment on the application to impose and use the revenue from a PFC at Minot International Airport under the provisions of the 49 U.S.C. 40117 and Part 158 of the Federal Aviation Regulations (14 CFR part 158).

On July 23, 2002, the FAA determined that the application to impose and use the revenue from a PFC submitted by the City of Minot was substantially complete within the requirements of section 185.25 of Part 158. The FAA will approve or disapprove the application, in whole or in part, no later than October 26, 2002.

The following is a brief overview of the application.

Proposed charge effective date: March 26, 2003.

Proposed charge expiration date: June 13, 2011.

Level of the proposed PFC: $4.50.

Total estimated PFC revenue: $2,432,182.

Brief description of proposed projects: (1) Runway 13-31 reconstruction, Runway 13-31 and Taxiway C translation and extension, association taxiway reconstruction, (2) land avigation easements, (3) friction measuring equipment, (4) install airport perimeter fencing and associated outflow attenuation structures, (5) preparation of PFC amendment ($3.00 to $4.50), (6) preparation of PFC application, (7) snow removal, (8) construct 48-inch storm sewer. Class or classes of air carriers which the public agency has requested not be required to collect PFCs: air taxi/commercial operator (ATCO) filing FAA Form 1800-31. Any person may inspect the application in person at the FAA office listed above under FOR FURTHER INFORMATION CONTACT.

In addition, any person may, upon request, inspect the application, notice and other documents germane to the application in person at the City of Minot, North Dakota—Airport Director's office at the Minot International Airport.

Issued in Des Plaines, Illinois on August 9, 2002.
Mark McClardy,
Manager, Planning and Programming Branch, Airports Division, Great Lakes Region.

[FR Doc. 02-21577 Filed 8-22-02; 8:45 am]

BILLING CODE 4910-13-M